FEDERAL MARITIME COMMISSION

Notice of Agreement Filed

The Commission hereby gives notice of the filing of the following agreement under the Shipping Act of 1984. Interested parties may submit comments on the agreement to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 012470-002.

Agreement Name: COSCO SHIPPING/PIL Slot Exchange Agreement—PNW.

Parties: COSCO Shipping Co., Ltd. and Pacific International Lines (PTE) Ltd.

Filing Party: Eric Jeffrey; Nixon Peabody.

Synopsis: The amendment deletes one of two previous slot exchanges, updates the other slot exchange and changes the name of the Agreement accordingly.

Proposed Effective Date: 4/9/2019.

Location: https://www2.fmc.gov/FMC.Agreements.Web/Public/AgreementHistory/1964.

Dated: April 12, 2019.
Rachel Dickon,
Secretary.

[FR Doc. 2019-07721 Filed 4-16-19; 8:45 am]

BILLING CODE 6731-AA-P